DEPARTMENT OF ENERGY

Federal Energy Regulatory Commission

Combined Notice of Filings #1

Take notice that the Commission received the following electric rate filings:

Docket Numbers: ER12-2303-001.

Applicants: New York Independent System Operator, Inc.

Description: Amendment to NYISO OATT, Attachment Y Filing to be effective 9/24/2012.

Filed Date: 9/6/12.

Accession Number: 20120906-5039.

Comments Due: 5 p.m. e.t. 9/17/12.

Docket Numbers: ER12-2368-000.

Applicants: Denver City Energy Associates, LP.

Description: Golden Spread Electric Cooperative, Inc. submits additional information regarding cancellation of Denver City Energy Associates, L.P. tariff.

Filed Date: 9/5/12.

Accession Number: 20120905-5122.

Comments Due: 5 p.m. e.t. 9/26/12.

Docket Numbers: ER12-2583-000.

Applicants: PacifiCorp.

Description: UMPA ARTSOA Rev 3 to be effective 11/5/2012.

Filed Date: 9/5/12.

Accession Number: 20120905-5104.

Comments Due: 5 p.m. e.t. 9/26/12.

Docket Numbers: ER12-2586-000.

Applicants: PacifiCorp.

Description: BPA Agmt for Pilot Butte Sub Mtring and Trnsfr CEC to BPA BAA to be effective 11/6/2012.

Filed Date: 9/6/12.

Accession Number: 20120906-5058.

Comments Due: 5 p.m. e.t. 9/27/12.

Docket Numbers: ER12-2587-000.

Applicants: PacifiCorp.

Description: OATT Revisions to Remove MEC References to be effective 11/6/2012.

Filed Date: 9/6/12.

Accession Number: 20120906-5059.

Comments Due: 5 p.m. e.t. 9/27/12.

Docket Numbers: ER12-2588-000.

Applicants: Hess Small Business Services LLC.

Description: Category Seller Change to be effective 11/5/2012.

Filed Date: 9/6/12.

Accession Number: 20120906-5060.

Comments Due: 5 p.m. e.t. 9/27/12.

Docket Numbers: ER12-2589-000.

Applicants: Hess Corporation.

Description: Category Seller Change to be effective 11/5/2012.

Filed Date: 9/6/12.

Accession Number: 20120906-5061.

Comments Due: 5 p.m. e.t. 9/27/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 6, 2012.
Nathaniel J. Davis, Sr.,
Deputy Secretary.

[FR Doc. 2012-22524 Filed 9-12-12; 8:45 am]

BILLING CODE 6717-01-P